DEPARTMENT OF STATE

[Public Notice 8706]

Certifications Pursuant to Section 609 of Public Law 101-162; Correction

AGENCY: Department of State.

ACTION: Notice 8682; Correction.

SUMMARY: The Department of State published a document in the Federal Register of Monday, April 7, 2014 concerning certifications pursuant to Section 609 of Public Law 101-162. The document contained two incorrect references to the royal red shrimp (Menopenaeus robustus) rather than the Mediterranean red shrimp (Aristeus antennatus).

FOR FURTHER INFORMATION CONTACT: Stephen J. Wilger, Office of Marine Conservation, Bureau of Oceans and International Environmental and Scientific Affairs, Department of State, Washington, DC 20520-7818; telephone: (202) 647-3263; email: wilgersj2@state.gov.

Correction

In the Federal Register of Monday, April 7, 2014, in FR Vol. 79, No. 66, p 19166, in the first sentence of the summary (the first paragraph of the second column), correct the sentence to read: The Department of State, in consultation with the National Oceanic and Atmospheric Administration's National Marine Fisheries Service (NMFS), determined that Mediterranean red shrimp (Aristeus antennatus) harvested in the Mediterranean Sea may be imported into the United States from Spain pursuant to Section 609 of Public Law 101-162. In the first sentence of the fourth paragraph of the third column, correct the sentence to read: The Department of State has consulted with NMFS and determined that imports of Mediterranean red shrimp (Aristeus antennatus) from the Spanish Mediterranean shrimp trawl fleet may be imported into the United States pursuant to the Section I(B)(d) of the Department's implementing guidelines.

Dated: April 8, 2014.
David A. Balton,
Deputy Assistant Secretary of State for Oceans and Fisheries, Department of State.

[FR Doc. 2014-09171 Filed 4-21-14; 8:45 am]

BILLING CODE 4710-09-P